DEPARTMENT OF THE TREASURY

Customs Service

Retraction of Revocation Notice

AGENCY: Customs Service, Department of the Treasury.

ACTION: General notice.

SUMMARY: The following Customs broker license was erroneously included in a list of revoked Customs broker licenses.

Name | License | Port name
Jose A. Ramos | 05284 | Houston

Customs broker license No. 05284 remains valid.

Dated: May 15,2002.
Bonni G. Tischler,
Assistant Commissioner, Office of Field Operations.

[FR Doc. 02-13222 Filed 5-24-02; 8:45 am]

BILLING CODE 4820-02-P